DEPARTMENT OF COMMERCE

International Trade Administration

[A-201-806]

Carbon Steel Wire Rope From Mexico; Final Results of Antidumping Duty Administrative and New Shipper Reviews

AGENCY: Import Administration, International Trade Administration, Department of Commerce.

ACTION: Notice of final results of antidumping duty administrative and new shipper reviews.

SUMMARY: On April 7, 2000, the Department of Commerce (the Department) published the preliminary results of the administrative and new shipper reviews of the antidumping duty order on carbon steel wire rope from Mexico (65 FR 18283). The merchandise covered by this order is carbon steel wire rope. Steel wire rope encompasses ropes, cables, and cordage of iron or carbon steel, other than stranded wire, not fitted with fittings or made up into articles, and not made up of brass plated wire. Excluded from this review is stainless steel wire rope and all forms of stranded wire, with the following exception. Based on the affirmative final determination of circumvention of the antidumping duty order, 60 FR 10831 (Feb. 28, 1995), the Department has determined that steel wire strand, when manufactured in Mexico by Camesa, S.A. de C.V. (Camesa) and imported into the United States for use in the production of steel wire rope, falls within the scope of the antidumping duty order on steel wire rope from Mexico. The reviews cover two manufacturers, Camesa and Cablesa, S.A. de C.V. The period of review is March 1, 1998 through February 28, 1999. We received no comments on our preliminary results and have made no changes to our calculations. The final weighted-average dumping margins for the reviewed firms are listed below in the section entitled Final Results of the Review.

EFFECTIVE DATE: August 17, 2000.

FOR FURTHER INFORMATION CONTACT: Mark Hoadley or Maureen Flannery, Import Administration, International Trade Administration, U.S. Department of Commerce, Washington, DC 20230; telephone: (202) 482-0666 and (202) 482-3020, respectively.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department's regulations are to 19 CFR Part 351 (1999).

Background

On April 7, 2000, the Department published the preliminary results of the administrative and new shipper reviews of the antidumping duty order on carbon steel wire rope from Mexico (65 FR 18283). We invited parties to comment on our preliminary results of review. We received no comments. The Department has conducted these administrative and new shipper reviews in accordance with section 751 of the Act.

Scope of Review

The merchandise covered by this order consists of carbon steel wire rope. Steel wire rope encompasses ropes, cables, and cordage of iron or carbon steel, other than stranded wire, not fitted with fittings or made up into articles, and not made up of brass plated wire. Imports of these products are currently classifiable under the following Harmonized Tariff Schedule of the United States (HTSUS) subheadings: 7312.10.9030, 7312.10.9060 and 7312.10.9090.

Excluded from this review is stainless steel wire rope, which is classifiable under the HTSUS subheading 7312.10.6000, and all forms of stranded wire, with the following exception. Based on the affirmative final determination of circumvention of the antidumping duty order, 60 FR 10831 (Feb. 28, 1995), the Department has determined that steel wire strand, when manufactured in Mexico by Camesa and imported into the United States for use in the production of steel wire rope, falls within the scope of the antidumping duty order on steel wire rope from Mexico. Such merchandise is currently classifiable under subheading 7312.10.3020 of the HTSUS.

Although the HTSUS subheadings are provided for convenience and customs purposes, our written description of the scope of this review is dispositive.

Comments From Interested Parties and Changes Since the Preliminary Results

We received no comments from interested parties in response to our preliminary results. We have made no changes in the margin calculations.

Final Results of Review

We determine that the following percentage weighted-average margins exist for the period March 1, 1998 through February 28, 1999:

Manufacturer/exporter | Margin (percent)
Camesa, S.A. de C.V. | 111.68
Cablesa, S.A. de C.V. | 0.00

Cash Deposit Instructions

As a result of a Sunset Review of carbon steel wire rope from Mexico, the Department has revoked the antidumping duty order for this case, effective January 1, 2000. See Revocation of Antidumping Duty Orders: Certain Steel Wire Rope From Japan, Korea, and Mexico, 65 FR 3205-01 (Jan. 20, 2000). Therefore, we have instructed the Customs Service to terminate suspension of liquidation for all entries of subject merchandise made on or after January 1, 2000. We will issue additional instructions directing the Customs Service to liquidate all entries of carbon steel wire rope made on or after January 1, 2000, without regard to antidumping duties.

Entries of subject merchandise made prior to January 1, 2000, will continue to be subject to suspension of liquidation and antidumping duty deposit requirements. The Department will complete any pending reviews of this order and will conduct administrative reviews of subject merchandise entered prior to the effective date of revocation in response to appropriately filed requests for review.

Assessment Rate

The Department shall determine, and Customs shall assess, antidumping duties on all entries made during the current review period (March 1, 1998 through February 29, 1999). In accordance with 19 CFR 351.212(b), we have calculated importer-specific assessment rates. We divided the total dumping margins for the reviewed sales by the total entered value of those reviewed sales for each importer. We will direct Customs to assess the resulting percentage margins against the entered Customs values for the subject merchandise on each of that importer's entries under the relevant order during the review period.

Notifications

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(1) and 777(i) of the Act.

Dated: August 7, 2000.
Troy H. Cribb,
Acting Assistant Secretary for Import Administration.

[FR Doc. 00-20980 Filed 8-16-00; 8:45 am]

BILLING CODE 3510-DS-P